DEPARTMENT OF LABOR

Office of the Secretary

Agency Information Collection Activities: Proposed Collection; Comment Request; Equal Access to Justice Act

ACTION: Notice.

SUMMARY: The U.S. Department of Labor (DOL) is soliciting comments concerning the proposed extension of the information collection request (ICR) for applicants to obtain awards in administrative proceedings subject to the Equal Access to Justice Act.

DATES: Written comments must be submitted by October 17, 2014.

ADDRESSES: Comments may be submitted by mail to the U.S. Department of Labor/Office of the Solicitor Attn: Raymond E. Mitten, Jr., 200 Constitution Avenue NW., Room N-2420, Washington, DC 20210. Comments also may be sent by email to DOL_PRA_Public@dol.gov. Written comments limited to 10 pages or fewer may be transmitted by facsimile to (202) 693-5538 (this is not a toll-free number).

FOR FURTHER INFORMATION CONTACT: Contact Raymond E. Mitten, Jr., Counsel for FOIA Appeals, Paperwork Reduction Act, & Federal Records Act, Division of Management and Administrative Legal Services, Office of the Solicitor, 200 Constitution Ave. NW., Washington, DC 20210, telephone (202) 693-5523 (this is not a toll-free number). Copies of the referenced ICR are available in Room N-1301, U.S. Department of Labor, 200 Constitution Avenue NW., Washington, DC 20210. A copy of the ICR, with applicable supporting documentation, may be obtained free of charge by calling the Michel Smyth at (202) 693-4129 (this is not a toll-free number) or sending an email to DOL_PRA_Public@dol.gov.

SUPPLEMENTARY INFORMATION: I. Background: The Equal Access to Justice Act provides for the award of fees and expenses to certain parties involved in administrative proceedings with the United States. The statute requires, at 5 U.S.C. sec. 504(a)(2), that a party seeking an award of fees and other expenses in a covered administrative proceeding must submit to the agency an application which shows that the party is the prevailing party and is eligible to receive an award under the Act. DOL regulations implementing the Equal Access to Justice Act contain a subpart specifying the contents of applications for an award, 29 CFR part 16, subpart B. The DOL is currently proposing no changes to the information collection requirements.

II. Desired Focus of Comments: The DOL, as part of its continuing effort to reduce paperwork and respondent burden, conducts a pre-clearance consultation program to provide the general public and Federal agencies with an opportunity to comment on proposed and/or continuing collections of information in accordance with the Paperwork Reduction Act of 1995 (44 U.S.C. 3505(c)(2)(A)). The program helps to ensure that requested data can be provided in the desired format, reporting burden (time and financial resources) is minimized, collection instruments are clearly understood, and the impact of the collection requirements on respondents can be properly assessed. The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Comments submitted in response to this notice will become a matter of public record. They will also be summarized and included in the request for Office of Management and Budget (OMB) approval of the final information collection request that will be accessible through the Internet. The DOL encourages commenters not to include sensitive personal information (e.g., a social security number), confidential business data (e.g., a bank account number or trade secret), or other sensitive statements/information in any comments.

III. Current Action: This notice requests an extension of the current OMB approval of the paperwork requirements for the contents of applications for an award under the Equal Access to Justice Act.

Type of Review: Extension of a currently approved collection of information.

Agency: DOL-DM.

Title: Equal Access to Justice Act.

OMB Control Number: 1225-0013.

Affected Public: Individuals or Households; Private Sector—businesses or other for-profits, farms, and not-for-profit institutions; and State, Local, and Tribal Governments.

Number of Respondents: 10.

Frequency: On occasion.

Total responses: 10.

Average time per response: 5 hours.

Estimated total burden hours: 50 hours.

Total annualized capital/startup costs: $0.

Total annualized costs (operation and maintenance): $0.

Dated: August 11, 2014.
Michel Smyth,
Departmental Clearance Office.

[FR Doc. 2014-19441 Filed 8-15-14; 8:45 am]

BILLING CODE 4510-23-P